DEPARTMENT OF LABOR

Employment and Training Administration

[TA-W-74,605]

Cambridge Tool & Die, Including On-Site Leased Workers From Action Total Staffing, Cambridge, OH; Amended Certification Regarding Eligibility To Apply for Worker Adjustment Assistance

In accordance with Section 223 of the Trade Act of 1974, as amended (“Act”), 19 U.S.C. 2273, the Department of Labor issued a Certification of Eligibility to Apply for Worker Adjustment Assistance on January 13, 2011, applicable to workers of Cambridge Tool & Die, Cambridge, Ohio. The workers are engaged in the production of plastic injection molds. The notice was published in the Federal Register on January 26, 2011 (76 FR 4731).

At the request of the State agency, the Department reviewed the certification for workers of the subject firm. The company reports that workers leased from Action Total Staffing were employed on-site at the Cambridge, Ohio location of Cambridge Tool & Die Corporation. The Department has determined that these workers were sufficiently under the control of Cambridge Tool & Die Corporation to be considered leased workers.

Based on these findings, the Department is amending this certification to include workers leased from Action Total Staffing working on-site at the Cambridge, Ohio location of Cambridge Tool & Die Corporation.

The amended notice applicable to TA-W-74,605 is hereby issued as follows:

All workers of Cambridge Tool & Die, including on-site leased workers from Action Total Staffing, Cambridge, Ohio, who became totally or partially separated from employment on or after September 7, 2009, through January 13, 2013, and all workers in the group threatened with total or partial separation from employment on the date of certification through two years from the date of certification, are eligible to apply for adjustment assistance under Chapter 2 of Title II of the Trade Act of 1974, as amended.

Signed at Washington, DC this 2nd day of March, 2011.
Michael W. Jaffe,
Certifying Officer, Office of Trade Adjustment Assistance.

[FR Doc. 2011-5659 Filed 3-11-11; 8:45 am]

BILLING CODE 4510-FN-P